DEPARTMENT OF HEALTH AND HUMAN SERVICES

National Institutes of Health

National Institute of Environmental Health Sciences; Amended Notice of Meeting

Notice is hereby given of a change in the meeting of the National Institute of Environmental Health Sciences Special Emphasis Panel, June 21, 2024, 11:00 a.m. to June 21, 2024, 05:30 p.m., NIEHS, Keystone, 530 Davis Drive, Durham, NC 27709 which was published in the Federal Register on May 8, 2024, 89 FR 38909.

This notice is being amended to change the Scientific Review Officer and Contact Person from Alfonso Latoni, Ph.D., to Varsha Shukla, Ph.D., Scientific Review Branch, National Institute of Environmental Sciences, National Institutes of Health, 530 Davis Drive, Keystone Building, Durham, NC 27713, (984) 287-3288, varsha.shukla@nih.gov. The meeting location, date, and time will remain the same. The meeting is closed to the public.

Dated: June 13, 2024.
Miguelina Perez,
Program Analyst, Office of Federal Advisory Committee Policy.

[FR Doc. 2024-13433 Filed 6-18-24; 8:45 am]

BILLING CODE 4140-01-P